DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Socioeconomic Monitoring Program for the Florida Keys National Marine Sanctuary.

Form Number(s): None.

OMB Approval Number: 0648-0409.

Type of Request: Regular submission.

Burden Hours: 790.

Number of Respondents: 107.

Average Hours Per Response: Fishing panel interviews, 3 hours; and collection of data from monthly dive shop logs, 10 hours.

Needs and Uses: The purpose of this information collection is to gather socioeconomic monitoring information in the Florida Keys National Marine Sanctuary. In 1997 regulations created a series of “no take zones” in the sanctuary. Monitoring will evaluate the socioeconomic impacts of these zones. The results will be used to help guide revisions to the management plan for the sanctuary.

Affected Public: Business or other for-profit organizations.

Frequency: Annually and monthly.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 5, 2006.
Gwellnar Banks,
Management Analyst, Office of the Chief Information Officer.

[FR Doc. E6-10900 Filed 7-11-06; 8:45 am]

BILLING CODE 3510-NK-P